ENVIRONMENTAL PROTECTION AGENCY

40 CFR Part 52

[SC-201152; FRL-9480-3]

Approval and Promulgation of Air Quality Implementation Plans; South Carolina; Update to Materials Incorporated by Reference; Correction

AGENCY: Environmental Protection Agency (EPA).

ACTION: Final rule; correcting amendment.

SUMMARY: On April 25, 2011, EPA published a final rule providing the public with notice of the update to the South Carolina State Implementation Plan (SIP) compilation. This action corrects typographical errors in the regulatory language in EPA's April 25, 2011, final rule.

DATES: This action is effective October 17, 2011.

ADDRESSES: Copies of the documentation used in the action being corrected are available for inspection during normal business hours at the following location: U.S. Environmental Protection Agency, Region 4, 61 Forsyth Street, SW., Atlanta, Georgia 30303-8960. The Regional Office's official hours of business are Monday through Friday, 8:30 to 4:30, excluding federal holidays.

FOR FURTHER INFORMATION CONTACT: Ms. Lynorae Benjamin, Chief, Regulatory Development Section, Air Planning Branch, Air, Pesticides and Toxics Management Division, U.S. Environmental Protection Agency, Region 4, 61 Forsyth Street, SW., Atlanta, Georgia 30303-8960. Ms. Benjamin can be reached at 404-562-9040, or via electronic mail at benjamin.lynorae@epa.gov.

SUPPLEMENTARY INFORMATION: This action corrects typographical errors in the regulatory language for several entries that appear in paragraphs (c) and (e) of South Carolina's Identification of Plan at 40 CFR 52.2120. The final action, which provided the public with notice of the update to the South Carolina SIP compilation, was approved by EPA on April 25, 2011 (76 FR 22817). However, EPA inadvertently cited, incorrect State effective dates, EPA approval dates, and Federal Register notice citations. Therefore, EPA is correcting these typographical errors by inserting the correct entries into paragraphs (c) and (e) of 40 CFR 52.2120.

EPA has determined that today's action falls under the “good cause” exemption in section 553(b)(3)(B) of the Administrative Procedure Act (APA) which, upon finding “good cause,” authorizes agencies to dispense with public participation where public notice and comment procedures are impracticable, unnecessary, or contrary to the public interest. Public notice and comment for this action are unnecessary because today's action to correct inadvertent errors contained in paragraphs (c) and (e) of 40 CFR 52.2120 of the rulemaking and has no substantive impact on EPA's April 25, 2011, approval. In addition, EPA can identify no particular reason why the public would be interested in being notified of the correction, or in having the opportunity to comment on the correction prior to this action being finalized, since this correction action does not change the meaning of EPA's action to approve the changes to paragraphs (c) and (e) of 40 CFR 52.2120.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. Today's rule, however, does not create any new regulatory requirements such that affected parties would need time to prepare before the rule takes effect. Rather, today's action merely corrects typographical errors in paragraphs (c) and (e) of a prior rulemaking by correcting the State effective dates, EPA approval dates, and Federal Register notice citations as identified above in 40 CFR 52.2120 in a revision, which EPA approved on April 25, 2011. For these reasons, EPA finds good cause under APA section 553(d)(3) for this correction to become effective on the date of publication of this action.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects typographical errors in paragraphs (c) and (e) of a prior rulemaking by correcting the citation as identified above in 40 CFR 52.2120, which EPA approved on April 25, 2011, and imposes no additional requirements beyond those imposed by state law. Accordingly, the Administrator certifies that this rule will not have a significant economic impact on a substantial number of small entities under the Regulatory Flexibility Act (5 U.S.C. 601 et seq.). Because this rule merely corrects inadvertent errors in paragraphs (c) and (e) of a prior rule, and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely corrects typographical errors in paragraphs (c) and (e) of a prior rulemaking by correcting citations as identified above in 40 CFR 52.2120 in a revision which EPA approved on April 25, 2011, and does not alter the relationship or the distribution of power and responsibilities established in the Clean Air Act (CAA). This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 16, 2011. Filing a petition for reconsideration by the Administrator of this final rule does not affect the finality of this rule for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 6, 2011.
A. Stanley Meiburg,
Acting Regional Administrator, Region 4.

40 CFR part 52, is amended as follows:

PART 52—[AMENDED]

1. The authority citation for part 52 continues to read as follows:

Authority: 42 U.S.C. 7401 et seq.

Subpart PP—South Carolina

2. Section 52.2120 is amended as follows:

a. In paragraph (c), revise the entries for:

i. Section V;

ii. Standard No. 4, Sections IX and X;

iii. Standard No. 5, Section II, Parts B through D, G, H, O through R, and T;

iv. Standard No. 7 heading;

v. Standard No. 7, Regulation No. 62.7, Sections I through IV; and

vi. Standard No. 7, Regulation No. 62.96.

b. In paragraph (e), revise the first, fourth, and fifth entries.

§ 52.2120 Identification of plan.

* * * * *

(c) EPA approved regulations.

Air Pollution Control Regulations for South Carolina
State citation | Title/subject | State effective date | EPA approval date | Federal Register notice
* * * * * * *
Section V | Credible Evidence | 7/27/2001 | 11/13/2002 | 67 FR 68767
* * * * * * *
Standard No. 4 | Emissions From Process Industries |  |  |
* * * * * * *
Section IX | Visible Emissions | 4/22/1988 | 7/2/1990 | 55 FR 27226
Section X | Non-Enclosed Operations | 4/22/1988 | 7/2/1990 | 55 FR 27226
* * * * * * *
Standard No. 5 | Volatile Organic Compounds
* * * * * * *
Section II | Provisions for Specific Sources
Part B | Surface Coating of Coils | 8/24/1990 | 2/4/1992 | 57 FR 4158
Part C | Surface Coating of Paper, Vinyl, and Fabric | 8/24/1990 | 2/4/1992 | 57 FR 4158
Part D | Surface Coating of Metal Furniture and Large Appliances | 8/24/1990 | 2/4/1992 | 57 FR 4158
* * * * * * *
Part G | Surface Coating of Flat Wood Paneling | 2/25/1983 | 10/31/1983 | 48 FR 50078
Part H | Graphic Arts—Rotogravure Flexography | 2/25/1983 | 10/31/1983 | 48 FR 50078
* * * * * * *
Part O | Petroleum Liquid Storage in Fixed Roof Tanks | 2/25/1983 | 10/31/1983 | 48 FR 50078
Part P | Petroleum Liquid Storage in External Floating Roof Tanks | 2/25/1983 | 10/31/1983 | 48 FR 50078
Part Q | Manufacture of Synthesized Pharmaceutical Products | 2/25/1983 | 10/31/1983 | 48 FR 50078
Part R | Manufacture of Pneumatic Rubber Tires | 2/25/1983 | 10/31/1983 | 48 FR 50078
* * * * * * *
Part T | Bulk Gasoline Terminals and Vapor Collection Systems | 2/25/1983 | 10/31/1983 | 48 FR 50078
* * * * * * *
Standard No. 7 | Prevention of Significant Deterioration¹ | 6/24/2005 | 6/2/2008 | 73 FR 31378
* * * * * * *
Regulation No. 62.7 | Good Engineering Practice Stack Height | 5/23/1986 | 5/28/1987 | 52 FR 19858
Section I | General | 5/23/1986 | 5/28/1987 | 52 FR 19858
Section II | Applicability | 5/23/1986 | 5/28/1987 | 52 FR 19858
Section III | Definitions and Conditions | 5/23/1986 | 5/28/1987 | 52 FR 19858
Section IV | Public Participation | 5/23/1986 | 5/28/1987 | 52 FR 19858
Regulation No. 62.96 | Nitrogen Oxides (NOX) and Sulfur Dioxide (SO2) Budget Trading Program General Provisions | 10/24/2008 | 10/16/2009 | 74 FR 53167
* * * * * * *
¹ This regulation (submitted on July 1, 2005) includes two portions of EPA's 2002 NSR Reform Rules that were vacated by the D.C. Circuit Court—Pollution Control Projects (PCPs) and clean units. As a result, EPA is disapproving all rules and/or rule sections in the South Carolina PSD rules referencing clean units or PCPs. Specifically, the following South Carolina rules are being disapproved: (a)(2)(iv)(e); (a)(2)(iv)(f) (second sentence only); (a)(2)(vi); (b)(12); (b)(30)(iii)(h); (b)(34)(iii)(b); (b)(34)(vi)(d); (b)(35); (r)(6) (only the reference to the term “clean unit” is being disapproved. The remainder of this regulatory provision is being approved); (r)(7) (only the reference to the term “clean unit” is being disapproved. The remainder of this regulatory provision is being approved); (x); (y) and (z).

* * * * *

(e) EPA-approved South Carolina non-regulatory provisions.

Provision | State effective date | EPA approval date | Explanation
Cherokee County Ozone Attainment Demonstration and Ten-year Maintenance Plan | 6/26/1998 | 12/18/1998, 63 FR 70019 |
* * * * * * *
Attainment Demonstration for the Appalachian, Catawba, Pee Dee, Waccamaw, Santee Lynches, Berkeley-Charleston-Dorchester, Low Country, Lower Savannah, Central Midlands, and Upper Savannah Early Action Compact Areas | 6/25/2004 | 8/26/2005, 70 FR 50195 |
South Carolina Transportation Conformity Air Quality Implementation Plan | 11/19/2008 | 7/28/2009, 74 FR 37168 |
* * * * * * *

[FR Doc. 2011-26772 Filed 10-14-11; 8:45 am]

BILLING CODE 6560-50-P